COMMISSION ON CIVIL RIGHTS

Notice of Public Meeting of the Florida Advisory Committee

AGENCY: U.S. Commission on Civil Rights.

ACTION: Notice of meeting.

SUMMARY: Notice is hereby given, pursuant to the provisions of the rules and regulations of the U.S. Commission on Civil Rights (Commission) and the Federal Advisory Committee Act that the Florida Advisory Committee will hold a meeting on Wednesday July 17, 2019; 12:00 p.m. to discuss and continue finalizing details of the Voter Disenfranchisement public hearing to be held on Tuesday July 23, 2019.

DATES: The meeting will be held on Wednesday July 17, 2019; 12:00 p.m. EST.

Public Call Information: Teleconference 800-353-6461, Conference ID: 6301308.

FOR FURTHER INFORMATION CONTACT: Jeff Hinton, DFO, at 312-353-8311 or jhinton@usccr.gov.

SUPPLEMENTARY INFORMATION: Members of the public are invited to come in and listen to the discussion. Written comments will be accepted until July 15, 2019 and may be mailed to the Regional Program Unit Office, U.S. Commission on Civil Rights, 230 S. Dearborn, Suite 2120, Chicago, IL 60604. They may also be faxed to the Commission at (312) 353-8324 or may be emailed to the Regional Director, Jeff Hinton at jhinton@usccr.gov. Records of the meeting will be available via www.facadatabase.gov under the Commission on Civil Rights, Florida Advisory Committee link. Persons interested in the work of this Committee are directed to the Commission's website, http://www.usccr.gov, or may contact the Southern Regional Office at the above email or street address.

Agenda

Opening Remarks

New Business: Continue discussion of public hearing.

Public Comments/Participation

Adjournment

Dated: July 1, 2019.
David Mussatt,
Supervisory Chief, Regional Programs Unit.

[FR Doc. 2019-14342 Filed 7-3-19; 8:45 am]

BILLING CODE P